SOCIAL SECURITY ADMINISTRATION

[Docket No. SSA-2019-0040]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions, extensions, and corrections of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2019-0040].

I. The information collections below are pending at SSA. SSA will submit them to OMB within 60 days from the date of this notice. To be sure we consider your comments, we must receive them no later than November 12, 2019. Individuals can obtain copies of the collection instruments by writing to the above email address.

1. Incorporation by Reference of Oral Findings of Fact and Rationale in Wholly Favorable Written Decisions (Bench Decision Regulation)—20 CFR 404.953 and 416.1453—0960-0694. If an administrative law judge (ALJ) makes a wholly favorable oral decision, including all the findings and rationale for the decision for a claimant of Title II or Title XVI payments, at an administrative appeals hearing, the ALJ sends a Notice of Decision (Form HA-82), as the records from the oral hearing preclude the need for a written decision. We call this the incorporation-by-reference process. In addition, the regulations for this process state that if the involved parties want a record of the oral decision, they may submit a written request for these records. SSA collects identifying information under the aegis of Sections 20 CFR 404.953 and 416.1453 of the Code of Federal Regulations to determine how to send interested individuals written records of a favorable incorporation-by-reference oral decision made at an administrative review hearing. Since there is no prescribed form to request a written record of the decision, the involved parties send SSA their contact information and reference the hearing for which they would like a record. The respondents are applicants for Disability Insurance Benefits and SSI payments, or their representatives, to whom SSA gave a wholly favorable oral decision under the regulations cited above.

Type of Request: Extension of an OMB-approved information collection.

Modality of completion | Number of respondents | Frequency of response | Average burden per response (minutes) | Estimated total annual burden (hours) | Average theoretical hourly cost amount (dollars) * | Total annual opportunity cost (dollars) **
HA-82 | 2,500 | 1 | 5 | 208 | * $10.22 | ** $2,126
* We based this figure on average DI payments, as reported in SSA's disability insurance payment data.
** This figure does not represent actual costs that SSA is imposing on recipients of Social Security payments to complete this application; rather, these are theoretical opportunity costs for the additional time respondents will spend to complete the application. There is no actual charge to respondents to complete the application.

2. Request for Waiver of Special Veterans Benefits (SVB) Overpayment Recovery or Change in Repayment Rate—20 CFR 408.900-408.950—0960-0698. Title VIII of the Act requires SSA to pay a monthly benefit to qualified World War II veterans who reside outside the United States. When an overpayment in this SVB occurs, the beneficiary can request a waiver of recovery of the overpayment or a change in the repayment rate. SSA uses the SSA-2032-BK to obtain the information necessary to establish whether the claimant meets the waiver of recovery provisions of the overpayment, and to determine the repayment rate if we do not waive repayment. Respondents are SVB beneficiaries who have overpayments on their Title VIII record and wish to file a claim for waiver of recovery or change in repayment rate.

Type of Request: Revision of an OMB-approved information collection.

Modality of completion | Number of respondents | Frequency of response | Average burden per response (minutes) | Estimated total annual burden (hours) | Average theoretical hourly cost amount (dollars) * | Total annual opportunity cost (dollars) **
SSA-2032-BK | 134 | 1 | 120 | 268 | * $7.67 | ** $2,056
* We based this figure on average SVB payments, as per SSA's data.
** This figure does not represent actual costs that SSA is imposing on recipients of Social Security payments to complete this application; rather, these are theoretical opportunity costs for the additional time respondents will spend to complete the application. There is no actual charge to respondents to complete the application.

3. Protection and Advocacy for Beneficiaries of Social Security (PABSS)—20 CFR 435.51-435.52—0960-0768. The PABSS projects are part of Social Security's strategy to increase the number of SSDI or SSI recipients who return to work and achieve financial independence and self-sufficiency as the result of receiving support, representation, advocacy, or other services. PABSS provides: (1) Information and advice about obtaining vocational rehabilitation and employment services; and (2) advocacy or other services a beneficiary with a disability may need to secure, maintain, or regain gainful employment. The PABSS Annual Program Performance Report collects statistical information from each of the PABSS projects in an effort to manage and capture program performance and quantitative data. Social Security uses the information to evaluate the efficiency of the program, and to ensure beneficiaries are receiving quality services. The project data is valuable to Social Security in its analysis of and future planning for the SSDI and SSI programs. The respondents are the 57 PABSS project sites, and recipients of SSDI and SSI programs.

Type of Request: Revision of an OMB-approved information collection.

Modality of completion | Number of respondents | Frequency of response | Average burden per response (minutes) | Estimated total annual burden (hours) | Average theoretical hourly cost amount (dollars) * | Total annual opportunity cost (dollars) **
PABSS Program Grantees | 57 | 1 | 60 | 57 | * 42.66 | ** $2,432
Beneficiaries | 8,284 | 1 | 30 | 4,142 | * $10.22 | ** 42,331
Totals | 8,341 |  |  | 4,199 |  | ** 44,763
* We based these figures on average Computer Systems Analyst hourly salary, as reported by Bureau of Labor Statistics data, and average DI payments, as reported in SSA's disability insurance payment data.
** This figure does not represent actual costs that SSA is imposing on recipients of Social Security payments to complete this application; rather, these are theoretical opportunity costs for the additional time respondents will spend to complete the application. There is no actual charge to respondents to complete the application.

4. Methods for Conducting Personal Conferences When Waiver of Recovery of a Title II or Title XVI Overpayment Cannot Be Approved—20 CFR 404.506(e)(3), 404.506(f)(8), 416.557(c)(3), and 416.557(d)(8)—0960-0769. SSA conducts personal conferences when we cannot approve a waiver of recovery of a Title II or Title XVI overpayment. The Act and our regulatory citations require SSA to give overpaid Social Security beneficiaries and SSI recipients the right to request a waiver of recovery and automatically schedule a personal conference if we cannot approve their request for waiver of overpayment. We conduct these conferences face-to-face, via telephone, or through video teleconferences. Social Security beneficiaries and SSI recipients, or their representatives, may provide documents to demonstrate they are without fault in causing the overpayment and do not have the ability to repay the debt. They may submit these documents by completing Form SSA-632, Request for Waiver of Overpayment Recovery (OMB No. 0960-0037); Form SSA-795, Statement of Claimant or Other Person (OMB No. 0960-0045); or through a personal statement submitted by mail, telephone, personal contact, or other suitable method, such as fax or email. This information collection satisfies the requirements for request for waiver of recovery of an overpayment, and allows individuals to pursue further levels of administrative appeal via personal conference. Respondents are Social Security beneficiaries and SSI recipients or their representatives seeking reconsideration of an SSA waiver decision.

Type of Request: Revision on an OMB-approved information collection.

Modality of completion | Number of respondents | Frequency of response | Average burden per response (minutes) | Estimated total annual burden (hours) | Average theoretical hourly cost amount (dollars) * | Total annual opportunity cost (dollars) **
Title II, Personal Conference, 404.506(e)(3) and 404-506(f)(8): Submittal of documents, additional mitigating financial information, and verifications for consideration at personal conferences | 30,271 | 1 | 45 | 22,703 | * $22.50 | ** $510,818
Title XVI, Personal Conference, 416.557(c)(3) and 416-557(d)(8): Submittal of documents, additional mitigating financial information, and verifications at personal conferences. | 51,192 | 1 | 45 | 38,394 | * $10.22 | ** $392,378
Totals | 81,463 |  |  | 61,097 |  | ** 903,205
* We based these figures on average U.S. citizen's hourly salary, as reported by Bureau of Labor Statistics data; and and average DI payments, as reported in SSA's disability insurance payment data.
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than October 15, 2019. Individuals can obtain copies of the OMB clearance packages by writing to OR.Reports.Clearance@ssa.gov.

1. Application for Child's Insurance Benefits—20 CFR 404.350-404.368, 404.603, & 416.350—0960-0010. Title II of the Act provides for the payment of monthly benefits to children of an insured retired, disabled, or deceased worker. Section 202(d) of the Act discloses the conditions and requirements the applicant must meet when filing an application. SSA uses the information on Form SSA-4-BK to determine entitlement for children of living and deceased workers to monthly Social Security payments. Respondents are guardians completing the form on behalf of the children of living or deceased workers, or the children of living or deceased workers.

Type of Request: Revision of an OMB-approved information collection.

Modality of completion | Number of respondents | Frequency of response | Average burden per response (minutes) | Estimated total annual burden (hours) | Average theoretical hourly cost amount (dollars) * | Total annual opportunity cost (dollars) **
Application for Child's Insurance Benefits/Death Claim/Paper SSA-4-BK | 1,204 | 1 | 12 | 241 | * $22.50 | ** $27,090
Application for Child's Insurance Benefits/Death Claim/Modernized Claims System (MCS) and Preliminary Claims System (PCS) | 204,777 | 1 | 11 | 37,542 | * 22.50 | ** 4,607,482
Application for Child's Insurance Benefits/Life Claim/Paper SSA-4-BK | 3,484 | 1 | 12 | 697 | * 22.50 | ** 78,390
Application for Child's Insurance Benefits/Life Claim/MCS and PCS | 422,267 | 1 | 11 | 77,416 | * 22.50 | ** 9,501,007
Totals | 631,732 |  |  | 115,896 |  | ** 14,213,969
* We based this figure on average U.S. citizen's hourly salary, as reported by Bureau of Labor Statistics data.
** This figure does not represent actual costs that SSA is imposing on recipients of Social Security payments to complete this application; rather, these are theoretical opportunity costs for the additional time respondents will spend to complete the application. There is no actual charge to respondents to complete the application.

2. Request for Hearing by Administrative Law Judge—20 CFR 404.929, 404.933, 416.1429, 404.1433, 418.1350, and 42 CFR 405.722—0960-0269. When SSA denies applicants', claimants', or beneficiaries' requests for new or continuing disability benefits or payments, the Act entitles those applicants, claimants, or beneficiaries to request a hearing to appeal the decision. To request a hearing, individuals complete Form HA-501; the associated Modernized Claims System (MCS) or SSI Claims System interview; or the internet application (i501). SSA uses the information to determine if the individual: (1) Filed the request within the prescribed time; (2) is the proper party; and (3) took the steps necessary to obtain the right to a hearing. SSA also uses the information to determine: (1) The individual's reason(s) for disagreeing with SSA's prior determinations in the case; (2) if the individual has additional evidence to submit; (3) if the individual wants an oral hearing or a decision on the record; and (4) whether the individual has (or wants to appoint) a representative. The respondents are Social Security disability applicants and recipients who want to appeal SSA's denial of their request for new or continued benefits for disability and non-medical hearing requests; and Medicare Part B recipients who must pay the Medicare Part B Income-Related Monthly Adjustment Amount.

Type of Request: Revision of an OMB-approved information collection.

Modality of completion | Number of respondents | Frequency of response | Average burden per response (minutes) | Estimated total annual burden (hours) | Average theoretical hourly cost amount (dollars) * | Total annual opportunity cost (dollars) **
HA-501; MCS; SSI Claims System | 10,325 | 1 | 10 | 1,721 | * $10.22 | ** $17,589
i501 (Internet iAppeals) | 653,318 | 1 | 5 | 54,443 | * 10.22 | ** 556,407
Totals | 663,643 |  |  | 56,164 |  | ** 573,996
* We based this figure on average DI payments, as reported in SSA's disability insurance payment data.
** This figure does not represent actual costs that SSA is imposing on recipients of Social Security payments to complete this application; rather, these are theoretical opportunity costs for the additional time respondents will spend to complete the application. There is no actual charge to respondents to complete the application.

3. Travel Expense Reimbursement—20 CFR 404.999(d) and 416.1499—0960-0434. The Act provides for travel expense reimbursement from Federal and State agencies for claimant travel incidental to medical examinations, and to parties, their representatives, and all reasonably necessary witnesses for travel exceeding 75 miles to attend medical examinations, reconsideration interviews, and proceedings before an administrative law judge. Reimbursement procedures require the claimant to provide: (1) A list of expenses incurred, and (2) receipts of such expenses. Federal and state personnel review the listings and receipts to verify the reimbursable amount to the requestor. The respondents are claimants for Title II benefits and Title XVI payments, their representatives and witnesses.

Correction Notice: SSA published the incorrect burden information for this collection at 84 FR 31972, on 7/3/19. We are correcting this error here.

Type of Request: Extension of an OMB-approved information collection.

Modality of completion | Number of respondents | Frequency of response | Average burden per response (minutes) | Estimated total annual burden (hours) | Average theoretical hourly cost amount (dollars) * | Total annual opportunity cost (dollars) **
404.99(d) & 416.1499 | 60,000 | 1 | 10 | 10,000 | * $10.22 | ** $613,200
* We based this figure on average DI payments, as reported in SSA's disability insurance payment data.
** This figure does not represent actual costs that SSA is imposing on recipients of Social Security payments to complete this application; rather, these are theoretical opportunity costs for the additional time respondents will spend to complete the application. There is no actual charge to respondents to complete the application.

4. Certificate of Coverage Request—20 CFR 404.1913—0960-0554. The United States (U.S.) has agreements with 30 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with Denmark, Netherlands, Norway, and Sweden require us to ask more questions in those countries. Respondents are workers and employers wishing to establish exemption from foreign Social Security taxes.

Type of Request: Revision of an OMB-approved information collection.

Modality of completion | Number of respondents | Frequency of response | Average burden per response (minutes) | Estimated total annual burden (hours) | Average theoretical hourly cost amount (dollars) * | Total annual opportunity cost (dollars) **
Requests via Letter—Individuals (minus Denmark, Netherlands, Norway, Poland & Sweden) | 5,833 | 1 | 40 | 3,889 | * $22.50 | ** $87,503
Requests via Internet—Individuals (minus Denmark, Netherlands, Norway, Poland & Sweden) | 9,761 | 1 | 40 | 6,507 | * 22.50 | ** 146,408
Requests via Letter—Individuals in Denmark, Netherlands, Norway, & Sweden | 284 | 1 | 44 | 208 | * 22.50 | ** 4,680
Requests via Letter—Individuals in Poland | 16 | 1 | 41 | 11 | * 22.50 | ** 248
Requests via Internet—Individuals in Denmark, Netherlands, Norway, & Sweden | 427 | 1 | 44 | 313 | * 22.50 | ** 7,043
Requests via Internet—Individuals in Poland | 25 | 1 | 41 | 17 | * 22.50 | ** 383
Requests via Letter—Employers (minus Denmark, Netherlands, Norway, Poland & Sweden) | 26,047 | 1 | 40 | 17,365 | * 22.50 | ** 390,713
Requests via Internet—Employers (minus Denmark, Netherlands, Norway, Poland, & Sweden) | 39,096 | 1 | 40 | 26,064 | * 22.50 | ** 586,440
Requests via Letter—Employers in Denmark, Netherlands, Norway, & Sweden | 1,137 | 1 | 44 | 834 | * 22.50 | ** 18,765
Requests via Letter—Employers in Poland | 57 | 1 | 41 | 39 | * 22.50 | ** 878
Requests via Internet—Employers in Denmark, Netherlands, Norway, & Sweden | 1,704 | 1 | 44 | 1,250 | * 22.50 | ** 28,125
Requests via Internet—Employers in Poland | 86 | 1 | 41 | 59 | * 22.50 | ** 1,328
Totals | 84,473 |  |  | 56,556 |  | ** 1,272,514
* We based this figure on average U.S. citizen's hourly salary, as reported by Bureau of Labor Statistics data.
** This figure does not represent actual costs that SSA is imposing on recipients of Social Security payments to complete this application; rather, these are theoretical opportunity costs for the additional time respondents will spend to complete the application. There is no actual charge to respondents to complete the application.

5. Privacy and Disclosure of Official Records and Information; Availability of Information and Records to the Public—20 CFR 401.40(b)&(c), 401.55(b), 401.100(a), 402.130, 402.185—0960-0566. SSA established methods for the public to: (1) Access their SSA records; (2) allow SSA to disclose records; (3) correct or amend their SSA records; (4) consent for release of their records; (5) request records under the Freedom of Information Act (FOIA); and (6) request access to an extract of their SSN record. SSA often collects the necessary information for these requests through a written letter, with the exception of the consent for release of records, for which we use Form SSA-3288. The respondents are individuals requesting access to, correction of, or disclosure of SSA records.

Correction Notice: SSA published this information collection as an extension on July 3, 2019 at 84 FR 3197. Since we are revising the Privacy Act Statement, this is now a revision of an OMB-approved information collection.

Type of Request: Revision of an OMB-approved information collection.

Modality of completion | Number of respondents | Frequency of response | Average burden per response (minutes) | Estimated total annual burden (hours) | Average theoretical hourly cost amount (dollars) * | Total annual opportunity cost (dollars) **
Access to Records | 10,000 | 1 | 11 | 1,833 | * $22.50 | ** $41,243
Designating a Representative for Disclosure of Records | 3,000 | 1 | 2 | 6,000 | * 22.50 | ** 135,000
Amendment of Records | 100 | 1 | 10 | 17 | * 22.50 | ** 383
Consent of Release of Records | 3,000,760 | 1 | 3 | 150,038 | * 22.50 | ** 3,375,855
FOIA Requests for Records | 15,000 | 1 | 5 | 1,250 | * 22.50 | ** 28,125
Respondents who request access to an extract of their SSN record | 10 | 1 | 8.5 | 1 | * 22.50 | ** 22.50
Totals | 3,028,870 |  |  | 159,139 |  | ** 3,580,629
* We based these figures on average U.S. citizen's hourly salary, as reported by Bureau of Labor Statistics data.
** This figure does not represent actual costs that SSA is imposing on recipients of Social Security payments to complete this application; rather, these are theoretical opportunity costs for the additional time respondents will spend to complete the application. There is no actual charge to respondents to complete the application.

6. Disability Report—Child—20 CFR 416.912—0960-0577. Sections 223(d)(5)(A) and 1631(e)(1) of the Act require SSI claimants to furnish medical and other evidence to prove they are disabled. SSA uses Form SSA-3820 to collect various types of information about a child's condition from treating sources or other medical sources of evidence. The State Disability Determination Services evaluators use the information from Form SSA-3820 to develop medical and school evidence, and to assess the alleged disability. The information, together with medical evidence, forms the evidentiary basis upon which SSA makes its initial disability evaluation. The respondents are claimants seeking SSI childhood disability payments.

Type of Request: Revision of an OMB-approved information collection.

Modality of completion | Number of respondents | Frequency of response | Average burden per response (minutes) | Estimated total annual burden (hours) | Average theoretical hourly cost amount (dollars) * | Total annual opportunity cost (dollars) **
SSA-3820 | 177,572 | 1 | 90 | 266,358 | 10.22 | ** 1,814,786
EDCS | 1,000 | 1 | 120 | 2,000 | 10.22 | ** 10,220
i3820 | 176,572 | 1 | 120 | 353,144 | 10.22 | ** 1,804,566
Totals | 355,144 |  |  | 621,502 |  | ** 3,629,572
* We based this figure on average DI payments, as reported in SSA's disability insurance payment data.
** This figure does not represent actual costs that SSA is imposing on recipients of Social Security payments to complete this application; rather, these are theoretical opportunity costs for the additional time respondents will spend to complete the application. There is no actual charge to respondents to complete the application.

7. Request for Reconsideration—20 CFR 404.907-404.921, 416.1407-416.1421, 408.1009, and 418.1325—0960-0622. The Act states those individuals who are dissatisfied with the results of an initial determination regarding their Title II disability; Tile XVI disability (SSI); Title VIII (SVB); or Title XVIII (Medicare benefits), can request a reconsideration hearing. Individuals use Form SSA-561-U2; the associated MCS or SSI Claims System interview; or the internet application (i561) to initiate a request for reconsideration of a denied claim. SSA uses the information to document the request and to determine an individual's eligibility or entitlement to Social Security benefits (Title II); SSI payments (Title XVI); Special Veterans Benefits (Title VIII); Medicare (Title XVIII); and for initial determinations regarding Medicare Part B income-related premium subsidy reductions. The respondents are applicants, claimants, beneficiaries, or recipients filing for reconsideration of an initial determination.

Type of Request: Revision of an OMB-approved information collection.

Modality of completion | Number of respondents | Frequency of response | Average burden per response (minutes) | Estimated total annual burden (hours) | Average theoretical hourly cost amount (dollars) * | Total annual opportunity cost (dollars) **
SSA-561 and Modernized Claims System (MCS) | 330,370 | 1 | 8 | 40,049 | * 10.22 | ** 409,301
I561 (Internet iAppeals) | 1,161,300 | 1 | 5 | 96,775 | * 10.22 | ** 989,041
Totals | 1,461,670 |  |  | 136,824 |  | ** 1,398,342
* We based this figure on average DI payments, as reported in SSA's disability insurance payment data.
** This figure does not represent actual costs that SSA is imposing on recipients of Social Security payments to complete this application; rather, these are theoretical opportunity costs for the additional time respondents will spend to complete the application. There is no actual charge to respondents to complete the application.

8. Request to Withdraw a Hearing Request; Request to Withdraw an Appeals Council Request for Review; and Administrative Review Process for Adjudicating Initial Disability Claims—20 CFR Parts 404, 405, and 416—0960-0710. Claimants have a statutory right under the Act and current regulations to apply for SSDI benefits or SSI payments. SSA collects information at each step of the administrative process to adjudicate claims fairly and efficiently. SSA collects this information to establish a claimant's right to administrative review, and determine the severity of the claimant's alleged impairments. SSA uses the information we collect to determine entitlement or continuing eligibility to SSDI benefits or SSI payments, and to enable appeals of these determinations. In addition, SSA collects information on Forms HA-85 and HA-86 to allow claimants to withdraw a hearing request or an Appeals Council review request. The respondents are applicants for Title II SSDI or Title XVI SSI benefits; their appointed representatives; legal advocates; medical sources; and schools.

Type of Request: Revision of an OMB-approved information collection.

20 CFR section No. | Number of respondents | Frequency of response | Average burden per response (minutes) | Estimated total annual burden (hours) | Average theoretical hourly cost amount (dollars) * | Total annual opportunity cost (dollars) **
404.961, 416.1461, 405.330, and 405.366 | 12,220 | 1 | 20 | 4,073 | 10.22 | ** 41,626
404.950, 416.1450, and 405.332 | 1,040 | 1 | 20 | 347 | 10.22 | ** 3,546
404.949 and 416.1449 | 2,868 | 1 | 60 | 2,868 | 10.22 | ** 29,311
405.334 | 20 | 1 | 60 | 20 | 10.22 | ** 204
404.957, 416.1457, and 405.380 | 21,041 | 1 | 10 | 3,507 | 10.22 | ** 35,842
405.381 | 37 | 1 | 30 | 19 | 10.22 | ** 194
405.401 | 5,310 | 1 | 10 | 885 | 10.22 | ** 9,045
404.971 and 416.1471 (HA-85; HA-86) | 1,606 | 1 | 10 | 268 | 10.22 | ** 2,739
404.982 and 416.1482 | 1,687 | 1 | 30 | 844 | 10.22 | ** 8,626
404.987 & 404.988 and 416.1487 & 416.1488 and 405.601 | 12,425 | 1 | 30 | 6,213 | 10.22 | ** 63,497
404.1740(b)(1) | 150 | 1 | 2 | 5 | 22.50 | ** 113
416.1540(b)(1) | 150 | 1 | 2 | 5 | 22.50 | ** 113
404.1512, 404.1740(c)(4), 416.912, and 416.1540(c)(4) | 150 | 1 | 2 | 5 | 22.50 | ** 113
405.372(c) | 5,310 | 1 | 10 | 885 | 10.22 | ** 9,045
405.1(b)(5) and 405.372(b) | 833 | 1 | 30 | 417 | 10.22 | ** 4,262
405.505 | 833 | 1 | 30 | 417 | 10.22 | ** 4,262
405.1(c)(2) | 5,310 | 1 | 10 | 885 | 10.22 | ** 9,045
405.20 | 5,310 | 1 | 10 | 885 | 10.22 | ** 9,045
Totals | 76,300 |  |  | 22,548 |  | ** 230,628
* We based these figures on average DI payments, as reported in SSA's disability insurance payment data, and average U.S. citizen's hourly salary, as reported by Bureau of Labor Statistics data.
** This figure does not represent actual costs that SSA is imposing on recipients of Social Security payments to complete this application; rather, these are theoretical opportunity costs for the additional time respondents will spend to complete the application. There is no actual charge to respondents to complete the application.

9. Request for Accommodation in Communication Method—0960-0777. SSA allows disabled or impaired Social Security applicants, beneficiaries, recipients, and representative payees to choose one of seven alternative methods of communication they want SSA to use when we send them benefit notices and other related communications. The seven alternative methods we offer are: (1) Standard print notice by first-class mail; (2) standard print mail with a follow-up telephone call; (3) certified mail; (4) Braille; (5) Microsoft Word file on data CD; (6) large print (18-point font); or (7) audio CD. However, respondents who want to receive notices from SSA through a communication method other than the seven methods listed above must explain their request to us. Those respondents use Form SSA-9000 to: (1) Describe the type of accommodation they want; (2) disclose their condition necessitating the need for a different type of accommodation; and (3) explain why none of the seven methods described above are sufficient for their needs. SSA uses Form SSA-9000 to determine, based on applicable law and regulation, whether to grant the respondents' requests for an accommodation based on their impairment or disability. SSA collects this information electronically through either an in-person interview or a telephone interview during which the SSA employee keys in the information on our iAccommodate Intranet screens. The respondents are disabled or impaired Social Security applicants, beneficiaries, recipients, and representative payees who ask SSA to send notices and other communications in an alternative method besides the seven modalities we currently offer.

Type of Request: Revision of an OMB-approved information collection.

Modality of completion | Number of respondents | Frequency of response | Average burden per response (minutes) | Estimated total annual burden (hours) | Average theoretical hourly cost amount (dollars) * | Total annual opportunity cost (dollars) **
SSA-9000/iAccommodate | 5,000 | 1 | 20 | 1,667 | * $10.22 | ** $51,100
* We based this figure on average DI payments, as reported in SSA's disability insurance payment data.
** This figure does not represent actual costs that SSA is imposing on recipients of Social Security payments to complete this application; rather, these are theoretical opportunity costs for the additional time respondents will spend to complete the application. There is no actual charge to respondents to complete the application.

10. Report of Adult Functioning-Employer—20 CFR 404.1512 and 416.912—0960-0805. Section 205 (a), 223(d)(5)(A), 1631(d)(1), and 1631(e)(1) of the Act require claimants' applying for SSDI benefits or SSI payments to provide SSA with medical and other evidence of their disability. 20 CFR 404.1512 and 20 CFR 416.912 of the Code of Federal Regulations provides detailed requirements of the types of evidence SSDI beneficiaries and SSI claimants must provide showing how their impairment(s) affect their ability to work (e.g., evidence of age, education and training, work experience, daily activities, efforts to work, and any other evidence). Past employers familiar with the claimant's ability to perform work activities completes Form SSA-385-BK, Report of Adult Functioning-Employer to provide SSA with information about the employees day-to-day functioning in the work setting. SSA and Disability Determination Services use the information Form SSA-3385-BK collects as the basis to determine eligibility or continued eligibility for disability benefits. The respondents are claimants' past employers.

Type of Request: Revision of an OMB-approved information collection.

Modality of completion | Number of respondents | Frequency of response | Average burden per response (minutes) | Estimated total annual burden (hours) | Average theoretical hourly cost amount (dollars) * | Total annual opportunity cost (dollars) **
SSA-3385-BK | 3,601 | 1 | 20 | 1,200 | * $22.50 | ** $27,000
* We based these figures on average U.S. citizen's hourly salary, as reported by Bureau of Labor Statistics data.
** This figure does not represent actual costs that SSA is imposing on recipients of Social Security payments to complete this application; rather, these are theoretical opportunity costs for the additional time respondents will spend to complete the application. There is no actual charge to respondents to complete the application.

Dated: September 9, 2019.
Naomi Sipple,
Reports Clearance Officer, Social Security Administration.

[FR Doc. 2019-19910 Filed 9-13-19; 8:45 am]

BILLING CODE 4191-02-P